DEPARTMENT OF DEFENSE

Defense Acquisition Regulations System

Accelerated Payments to Small Business Subcontractors

AGENCY: Defense Acquisition Regulations System, Department of Defense (DoD).

ACTION: Notice.

SUMMARY: DoD has discontinued its temporary practice of providing accelerated payments to all contractors.

DATES: Effective date: February 25, 2013.

FOR FURTHER INFORMATION CONTACT: Ms. Lee Renna, telephone 571-372-6095.

SUPPLEMENTARY INFORMATION:

A. Background

DoD provided notice in the Federal Register at 77 FR 63298, on October 16, 2012, that it had taken steps to accelerate payments to all DoD prime contractors, in order to implement the temporary policy established in OMB Memorandum M-12-16, Providing Prompt Payment to Small Business Subcontractors (July 11, 2012).

DoD has now discontinued the temporary practice of accelerating payments to all prime contractors. This action does not affect DoD's policy to assist small business prime contractors by paying them as quickly as possible after receipt of an invoice and all proper documentation, while also maintaining necessary DoD internal controls. The Department plans to continue phased implementation of the policy at Defense Federal Acquisition Regulation Supplement 232.903 and 232.906.

Authority: 41 U.S.C. 1303.

Manuel Quinones,
Editor, Defense Acquisition Regulations System.

[FR Doc. 2013-04394 Filed 2-22-13; 8:45 am]

BILLING CODE 5001-06-P